DEPARTMENT OF TRANSPORTATION

Federal Aviation Administration

14 CFR Part 73

[Docket No. 2002-FAA-14912; Airspace Docket No. 03-AWP-4]

RIN 2120-AA66

Proposed Amendment of Restricted Area R-2301E Ajo East, AZ; and R-2304, and 2305 Gila Bend, AZ

AGENCY: Federal Aviation Administration (FAA), DOT.

ACTION: Notice of proposed rulemaking.

SUMMARY: This action proposes to amend the designated time of use for Restricted Area 2301E Ajo East, AZ, (R-2301E); and R-2304 and R-2305, Gila Bend, AZ. Increased training requirements at Luke Air Force Base (AFB) have resulted in a continued need for restricted airspace usage up to 2400 hours in these areas. This proposed modification of time of use would not change the current boundaries or activities conducted in the airspace areas.

DATES: Comments must be received on or before July 14, 2003.

ADDRESSES: Send comments on this proposal to the Docket Management System, U.S. Department of Transportation, Room Plaza 401, 400 Seventh Street, SW., Washington, DC 20590-0001. You must identify “FAA Docket No. FAA-2002-14912 and Airspace Docket No. 03-AWP-4” at the beginning of your comments. You may also submit comments through the Internet at http://dms.dot.gov.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above.

Commenters wishing the FAA to acknowledge receipt of their comments on this action must submit with those comments a self-addressed, stamped postcard on which the following statement is made: “Comments to Docket No. FAA-2002-14912 and Airspace Docket No. 03-AWP-4.” The postcard will be date/time stamped and returned to the commenter. All communications received on or before the specified closing date for comments will be considered before taking action on the proposed rule. The proposal contained in this action may be changed in light of comments received.

All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.access.gpo.gov/nara.

You may review the public docket containing the proposal; any comments received; and any final disposition in person in the Dockets Office (see address above) between 9 a.m. and 5 p.m., Monday through Friday, except Federal holidays. An informal docket may also be examined during normal business hours at the office of the Regional Air Traffic Division, Federal Aviation Administration, 15000 Aviation Boulevard, Lawndale, CA 90261.

Additionally, any person may obtain a copy of this action by submitting a request to the Federal Aviation Administration, Office of Air Traffic Airspace Management, ATA-400, 800 Independence Avenue, SW., Washington, DC 20591, or by calling (202) 267-8783. Communications must identify both docket numbers for this action. Persons interested in being placed on a mailing list for future NPRM's should call the FAA's Office of Rulemaking, (202) 267-9677, for a copy of Advisory Circular No. 11-2A, Notice of Proposed Rulemaking Distribution System, which describes the application procedure.

History

Restricted airspace areas in the vicinity of Luke AFB, AZ, date back to the 1960's. The current designated time of use for these restricted areas was based on past use. An FAA review of airspace requirements for Luke AFB in January of this year showed the operating hours of the restricted areas were being routinely extended by the issuance of a Notice to Airmen (NOTAM). As a result of the review, the United States Air Force (USAF) requested that the FAA take action to change the time of use for these areas to support increased training requirements necessitating a regular need for restricted airspace availability until 2400 hours.

The Proposal

Based on the review and the USAF request, the FAA is proposing an amendment to Title 14 Code of Federal Regulations (14 CFR) part 73 (part 73) to amend the designated time of use for R-2301, R-2304, and R-2305. Specifically, this action proposes to change the designated time of use for R-2301E from “Monday-Friday, 0630-2230 local time; other times by NOTAM,” to “Daily, 0630 to 2400 local time; other times by NOTAM;” R-2304 from “0700-2200 local time; other times by NOTAM,” to “Monday-Saturday, 0630-2400 local time; other times by NOTAM;” and R-2305 from “0700-2300 local time; other times by NOTAM,” to “Monday-Saturday, 0630-2400 local time; other times by NOTAM.” Increased training requirements at Luke AFB have resulted in a continued need for restricted airspace availability until 2400 hours. This proposed modification would not change the current boundaries or activities conducted in the airspace area.

Section 73.48 of part 73 of the Federal Aviation Regulations was republished in FAA Order 7400.8K dated September 26, 2002.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subject to the appropriate environmental analysis in accordance with FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. § 73.23 is amended as follows:

* * * * *

R-2301E, Ajo East AZ [Amended]

By removing “Time of designation. Monday-Friday, 0630-2230 local time; other times by NOTAM,” and substituting “Time of designation. Daily, 0630-2400 local time; other times by NOTAM.”

R-2304, Gila Bend AZ [Amended]

By removing “Time of designation. 0700-2200 local time; other times by NOTAM,” and substituting “Time of designation. Monday-Saturday, 0630-2400 local time; other times by NOTAM.”

* * * * *

R-2305, Gila Bend AZ [Amended]

By removing “Time of designation. 0700-2300 local time; other times by NOTAM,” and substituting “Time of designation. Monday-Saturday, 0630-2400 local time; other times by NOTAM.”

* * * * *

Issued in Washington, DC, on May 15, 2003.
Reginald C. Matthews,
Manager, Airspace and Rules Division.

[FR Doc. 03-13037 Filed 5-29-03; 8:45 am]

BILLING CODE 4910-13-P